DEPARTMENT OF THE INTERIOR

Fish and Wildlife Service

Approved Recovery Plan for the Tumbling Creek Cavesnail (Antrobia culveri).

AGENCY: Fish and Wildlife Service, Interior.

ACTION: Notice of document availability.

SUMMARY: The U.S. Fish and Wildlife Service (Service) announces the availability of the approved recovery plan for the Tumbling Creek cavesnail (Antrobia culveri), a species that is federally listed as threatened under the Endangered Species Act of 1973 (Act), as amended (16 U.S.C. 1531 et seq.). This species is restricted to a single cave stream in Tumbling Creek Cave in Taney County, southwestern Missouri. Actions identified for recovery of the Tumbling Creek cavesnail include stabilizing and augmenting the existing population, properly managing and protecting surface habitat in the cave's recharge area, and ensuring long-term good water quality in Tumbling Creek.

ADDRESSES: This approved recovery plan is available from the following addresses:

1. Fish and Wildlife Reference Service, 5430 Grosvenor Lane, Suite 110, Bethesda, Maryland 20814 (the fee for the plan varies depending on the number of pages).

2. Field Supervisor, U.S. Fish and Wildlife Service, Ecological Services Field Office, 608 E. Cherry St., Room 200, Columbia, Missouri 65201-7712.

3. The World Wide Web at http://endangered.fws.gov/RECOVERY/index.html#plans

FOR FURTHER INFORMATION CONTACT: Dr. Paul McKenzie, Columbia, Missouri, Ecological Services Field Office (see ADDRESSES section No. 2 above), telephone (573) 876-1911, ext. 107. The Fish and Wildlife Reference Service may be reached at (301) 492-6403 or (800) 582-3421. TTY users may contact Dr. McKenzie and the Fish and Wildlife Reference Service through the Federal Relay Service at (800) 877-8339.

SUPPLEMENTARY INFORMATION:

Background

Recovery of endangered or threatened animals or plants is a primary goal of the Service's endangered species program. A species is considered recovered when the species' ecosystem is restored and threats to the species are removed so that self-sustaining and self-regulating populations of the species can be supported as persistent members of native biotic communities. Recovery plans describe actions considered necessary for the conservation of the species, establish criteria for reclassification to threatened status or delisting listed species, and estimate time and cost for implementing the measures needed for recovery.

The Endangered Species Act of 1973, as amended, requires that recovery plans be developed for listed species unless such a plan would not promote the conservation of a particular species. Section 4(f) of the Act, as amended in 1988, requires that during recovery plan development, we provide public notice and an opportunity for public review and comment. Information presented during the comment period has been considered in the preparation of the approved recovery plan, and is summarized in an appendix to the recovery plan.

The Tumbling Creek cavesnail was listed as endangered on August 14, 2002. The number of cavesnails has significantly decreased over the past few decades, to the point where only one individual was found within survey areas between January 11, 2001, and April 22, 2003. A population containing approximately 40 individuals exists in a small area upstream of the area that is regularly surveyed. This species lives on the underside of rocks in areas of Tumbling Creek that have little or no silt. Little is known about the species and its life history, but it is believed to feed on microscopic animals in the stream. Although the exact reason for this species' precipitous decline is unknown, it is believed to be linked to diminished water quality due to habitat degradation in upstream locations within the cave's delineated recharge zone.

The objective of this plan is to provide a framework for the recovery of the Tumbling Creek cavesnail so that protection by the Act is no longer necessary. As recovery criteria are met the status of the species will be reviewed and it will be considered for removal from the list of Endangered and Threatened Wildlife (50 CFR part 17). The Tumbling Creek cavesnail will be considered for reclassification from endangered to threatened when the following criteria have been met: (1) The population is stable or increasing for 10 consecutive years with at least 1,500 individuals; (2) a minimum of 80% of the surface habitat within the recharge area of Tumbling Creek Cave, including a minimum of 75% of all riparian corridors, sinkholes and losing streams, is appropriately managed; and (3) water quality monitoring fails to detect levels of any water pollutant that exceed U.S. Environmental Protection Agency recommended water quality or exceed known toxicity thresholds for the species for 10 consecutive years. The Tumbling Creek cavesnail will be considered for delisting when the above reclassification criteria have been met and the following additional criteria have been achieved: (1) The population is stable or increasing for 10 consecutive years with at least 5,000 individuals; (2) a minimum of 90% of the surface habitat within the recharge area of Tumbling Creek Cave, including a minimum of 85% of all riparian corridors, sinkholes and losing streams, is appropriately managed; and (3) water quality monitoring fails to detect levels of any water pollutant that exceed U.S. Environmental Protection Agency recommended water quality or exceed known toxicity thresholds for this species for 10 consecutive years.

Authority: The authority for this action is section 4(f) of the Endangered Species Act, 16 U.S.C. 1533 (f).

Dated: August 21, 2003.
Charles M. Wooley,
Assistant Regional Director, Ecological Services, Region 3, Fort Snelling, Minnesota.

[FR Doc. 03-24073 Filed 9-18-03; 12:01 pm]

BILLING CODE 4310-55-P